INTERNATIONAL TRADE COMMISSION

[Investigation No. 337-TA-590]

In the Matter of Certain Coupler Devices for Power Supply Facilities, Components Thereof, and Products Containing Same; Notice of Commission Issuance of a Limited Exclusion Order Against the Infringing Products of Eight Respondents Found in Default And Issuance of Cease and Desist Orders Against the Five Domestic Defaulters; Termination of Investigation

AGENCY: U.S. International Trade Commission.

ACTION: Notice.

SUMMARY: Notice is hereby given that the U.S. International Trade Commission has issued a limited exclusion order against eight respondents found in default and cease and desist orders against the five domestic defaulters, and has terminated the above-captioned investigation under section 337 of the Tariff Act of 1930, as amended, 19 U.S.C. 1337 (“section 337”).

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint filed by Topower Computer Industrial Co., Ltd. (“Topower”) of Xindian City, Taiwan. 72 FR 2554 (January 19, 2007). Topower alleged violations of section 337 in the importation into the United States, the sale for importation, and the sale within the United States after importation of certain coupler devices for power supply facilities, components thereof, and products containing same by reason of the infringement of one or more of claims 1-14 of U.S. Patent No. 6,935,902. The complaint named thirty respondents located in China, Germany, Taiwan, and the United States (California, North Carolina, and Minnesota). Topower originally requested a general exclusion order. The investigation was assigned to Administrative Law Judge (ALJ) Robert L. Barton, Jr., and subsequently reassigned to Judge Charles E. Bullock. Twenty-two respondents have been terminated from this investigation based on either a settlement agreement, consent order, or withdrawal of allegations.

On August 6, 2007, Topower filed a motion for an order directing respondents Aspire/Apevia International, Ltd. (“Aspire”), Xion/Axpertec, Inc. (“Xion”), JPAC Computer, Inc. (“JPAC”), Sunbeam Co. (“Sunbeam”), Super Flower Computer, Inc. (“Super Flower”), Taiwan Youngyear Electronics Co., Ltd. (“Taiwan Youngyear”), Sun Pro Electronics Co., Ltd. (“Sun Pro”), and Leadman Electronics Co., Ltd. (“Leadman”) to show cause why they should not be found in default for failure to respond to the Complaint and Notice of Investigation and advised that it was no longer seeking a general exclusion order. On August 30, 2007, the ALJ issued an order to show cause by September 14, 2007, why the respondents should not be found in default pursuant to Commission Rule 210.16. Order No. 37. On September 25, 2007, the ALJ issued an initial determination finding the eight respondents in default. Order No. 39. The Commission published notice in the Federal Register of its decision not to review this determination, and requested briefing from interested parties on remedy, the public interest, and bonding. 72 FR 58883 (October 17, 2007).

The Commission investigative attorney (IA) submitted briefing on November 8, 2007. The IA proposed a limited exclusion order and cease and desist orders directed to infringing coupler devices, components thereof, and products containing same of the defaulted respondents. The IA recommended allowing entry under bond of 100 percent of entered value during the period of Presidential review. Topower agreed with the recommendations of the IA.

The Commission found that each of the statutory requirements of section 337(g)(1)(A)-(E), 19 U.S.C. 1337(g)(1)(A)-(E), has been met with respect to the defaulting respondents. Accordingly, pursuant to section 337(g)(1), 19 U.S.C. 1337(g)(1), and Commission rule 210.16(c), 19 CFR 210.16(c), the Commission presumed the facts alleged in the complaint to be true.

The Commission determined that the appropriate form of relief in this investigation includes a limited exclusion order prohibiting the unlicensed entry of certain coupler devices for power supply facilities, components thereof, and products containing same by reason of infringement of one or more of claims 1-14 of U.S. Patent No. 6,935,902. The order covers certain coupler devices for power supply facilities, components thereof, and products containing same that are manufactured abroad by or on behalf of, or imported by or on behalf of respondents Aspire, Xion, JPAC, Sunbeam, Super Flower, Taiwan Youngyear, Sun Pro, and Leadman, or any of their affiliated companies, parents, subsidiaries, or other related business entities, or their successors or assigns. The Commission also determined to issue cease and desist orders prohibiting domestic respondents Aspire, Xion, JPAC, Sunbeam, and Leadman from importing, selling, marketing, advertising, distributing, offering for sale, transferring (except for exportation), and soliciting U.S. agents or distributors for certain coupler devices for power supply facilities, components thereof, and products containing same covered by the above-mentioned claims of U.S. Patent No. 6,935,902. The Commission further determined that the public interest factors enumerated in section 337(g)(1), 19 U.S.C. 1337(g)(1), do not preclude issuance of the limited exclusion order and cease and desist orders. Finally, the Commission determined that the bond under the limited exclusion order during the Presidential review period shall be in the amount of 100 percent of the entered value of the imported articles. The Commission's orders were delivered to the President and the United States Trade Representative on the day of their issuance.

The Commission has therefore terminated this investigation. The authority for the Commission's determination is contained in section 337 of the Tariff Act of 1930, as amended (19 U.S.C. 1337), and sections 210.16(c) and 210.41 of the Commission's Rules of Practice and Procedure (19 CFR 210.16(c) and 210.41).

Issued: December 20, 2007.
By order of the Commission.
Marilyn R. Abbott,
Secretary to the Commission.

[FR Doc. E7-25235 Filed 12-27-07; 8:45 am]

BILLING CODE 7020-02-P